DEPARTMENT OF HEALTH AND HUMAN SERVICES

Administration for Children and Families

Privacy Act of 1974; Matching Program

AGENCY: Office of Child Support Services, Administration for Children and Families, Department of Health and Human Services.

ACTION: Notice of a new matching program.

SUMMARY: In accordance with the Privacy Act of 1974, the U.S. Department of Health and Human Services (HHS), Administration for Children and Families (ACF), Office of Child Support Services (OCSS) is providing notice of a re-established matching program between HHS/ACF/OCSS and state agencies administering the Temporary Assistance for Needy Families (TANF) program. The matching program compares state TANF agency records with new hire, quarterly wage, and unemployment insurance information maintained in the National Directory of New Hires (NDNH). The outcomes of the comparisons help state agencies to establish and verify eligibility for applicants and recipients of TANF benefits, reduce TANF benefit errors, and maintain program integrity.

DATES: The deadline for comments on this notice is July 18, 2025. The re-established matching program will commence no sooner than 30 days after publication of this notice, provided no comments are received that warrant a change to this notice. The matching program will be conducted for an initial term of 18 months (from approximately July 19, 2025, through January 18, 2027) and, within 3 months of expiration, may be renewed for one additional year if the parties make no change to the matching program and certify that the program has been conducted in compliance with the agreement.

ADDRESSES: Interested parties may submit written comments on this notice to Venkata Kondapolu, Director, Division of Federal Systems, Office of Child Support Services, Administration for Children and Families, by email at venkata.kondapolu@acf.hhs.gov or by mail at Mary E. Switzer Building, 330 C St. SW—5th Floor, Washington, DC 20201. Comments received will be available for public inspection at this address from 9 a.m. to 5 p.m. ET, Monday through Friday.

FOR FURTHER INFORMATION CONTACT: General questions about the matching program may be submitted to Venkata Kondapolu, Director, Division of Federal Systems, Office of Child Support Services, Administration for Children and Families, by email at venkata.kondapolu@acf.hhs.gov, by mail at Mary E. Switzer Building, 330 C St. SW—5th Floor, Washington, DC 20201, or by telephone at 202-260-4712.

SUPPLEMENTARY INFORMATION: The Privacy Act of 1974 (5 U.S.C. 552a) provides certain protections for individuals applying for and receiving Federal benefits. Accordingly, the law governs Federal agency computer matching programs when records in a system of records containing information about individuals, that is retrieved by name or other personal identifier, are matched with records of other Federal, State, or local government agency records. The Privacy Act requires agencies involved in a matching program to:

1. Obtain approval of a Computer Matching Agreement, prepared in accordance with the Privacy Act, by the Data Integrity Board of any Federal agency participating in a matching program.

2. Enter into a written Computer Matching Agreement.

3. Provide a report of the matching program to Congress and the Office of Management and Budget (OMB) and make it available to the public, as required by 5 U.S.C. 552a(o), (u)(3)(A), and (u)(4).

4. Publish a notice of the matching program in the Federal Register as required by 5 U.S.C. 552a(e)(12) after OMB and Congress complete their review of the report, as provided by OMB Circular A-108.

5. Notify the individuals whose information will be used in the matching program that the information they provide is subject to verification through matching, as required by 5 U.S.C. 552a(o)(1)(D).

6. Verify match findings before suspending, terminating, reducing, or making a final denial of an individual's benefits or payments or taking other adverse action against the individual, as required by 5 U.S.C. 552a(p).

This matching program complies with these requirements.

Linda Boyer,
Deputy Commissioner, OCSS.

PARTICIPATING AGENCIES:

The agencies participating in the matching program are OCSS (source agency) and state agencies administering the TANF program (non-Federal agencies).

AUTHORITY FOR CONDUCTING THE MATCHING PROGRAM:

The authority for conducting the matching program is contained in section 453(j)(3) of the Social Security Act (42 U.S.C. 653(j)(3)).

PURPOSE(S):

The purpose of the matching program is to compare name and Social Security Number (SSN) combinations of TANF applicant and recipient records from each participating state agency administering TANF with new hire, quarterly wage, and unemployment insurance information maintained in the OCSS NDNH system of records. Any match results from the comparison are returned to the state TANF agency to help them with establishing or verifying TANF applicants' and recipients' eligibility for assistance, reducing payment errors, and maintaining program integrity, including determining whether duplicate participation exists or if the applicant or recipient resides in another state. The state TANF agencies may also use the NDNH match information to update the recipients' reported participation in work activities and recipients' and their employers' contact information maintained by the state TANF agencies.

CATEGORIES OF INDIVIDUALS:

The categories of individuals involved in the matching program are adult TANF applicants and recipients.

CATEGORIES OF RECORDS:

The categories of records involved in the TANF-NDNH matching program, which include personal identifiers, are new hire, quarterly wage, and unemployment insurance information. For successful comparison, state TANF input files sent to OCSS must be programmed according to TANF-NDNH Record Specifications and must include the individual applicant or recipient's name and SSN. The state TANF agency may use alpha-numeric characters in the Passback Data field of the input file to identify the specific authorized purpose for which the record is being submitted for NDNH matching. They may also use the same State Data Indicator field to indicate whether or not to receive NDNH data that was provided by the state. OCSS will compare the SSNs in the state TANF agency input file to the SSNs in the NDNH and will send the state agency an output file with any available new hire, quarterly wage, and available unemployment insurance information in the NDNH that matched the name and SSNs in the state TANF agency input file records. The NDNH data elements that OCSS will return to the state agency are:

a. New Hire File

• New hire processed date

• Employee name and address

• Employee date and state of hire

• Federal and state employer identification numbers

• Department of Defense code

• Employer name and address

• Transmitter agency code

• Transmitter state code

• Transmitter state or agency name

b. Quarterly Wage File

• Quarterly wage processed date

• Employee name

• Federal and state employer identification numbers

• Department of Defense code

• Employer name and address

• Employee wage amount

• Quarterly wage reporting period

• Transmitter agency code

• Transmitter state code

• Transmitter state or agency name

c. Unemployment Insurance File

• Unemployment insurance processed date

• Claimant name and address

• Claimant benefit amount

• Unemployment insurance reporting period

• Transmitter state code

• Transmitter state or agency name

SYSTEM(S) OF RECORDS:

The NDNH data used in this matching program will be disclosed from the following OCSS system of records, as authorized by routine use 8: OCSS National Directory of New Hires, System No. 09-80-0381; 89 FR 25625 (Apr. 11, 2024).

[FR Doc. 2025-10985 Filed 6-17-25; 8:45 am]

BILLING CODE 4184-42-P